DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on October 9, 2008 (Vol. 73, No. 197).

DATES: Effective Date: October 16, 2009.

FOR FURTHER INFORMATION CONTACT: Dadrian Brown, Human Resources Specialist, Executive Resources, Office of Human Resources Management (052), Department of Veterans Affairs, 810 Vermont Avenue, NW., Washington, DC 20420, (202) 461-7078.

VA Performance Review Board (PRB)

John U. Sepúlveda, Assistant Secretary for Human Resources and Administration (Chairperson).

Michael Cardarelli, Deputy Chief of Staff.

Michael Walcoff, Deputy Under Secretary for Benefits, Veterans Benefits Administration.

Geraldine Breakfield, Associate Deputy Under Secretary for Management (Alternate).

Ann C. Patterson, VHA Deputy Chief of Staff.

Gerald M. Cross, M.D., FAAFP, Acting Under Secretary for Health, Veterans Health Administration (Alternate).

Robert Petzel, M.D., Acting Principal Deputy Under Secretary for Health (Alternate).

Steve L. Muro, Deputy Under Secretary for Memorial Affairs.

Lindee Lenox, Associate Director Office of Field Programs (Alternate).

Glenn D. Haggstrom, Executive Director, Office of Acquisitions, Logistics, and Construction.

Maurice C. Stewart, Associate Deputy Assistant Secretary for Acquisition and Logistics Programs and Policy (Alternate).

William A. Gunn, General Counsel.

John H. Thompson, Deputy General Counsel (Alternate).

Rita Reed, Principal Deputy Assistant Secretary for Management.

Edward J. Murray, Deputy Assistant Secretary for Finance (Alternate).

Roger W. Baker, Assistant Secretary for Office of Information and Technology.

Stephen W. Warren, Principal Deputy Assistant Secretary, Office of Information and Technology (Alternate).

Irene Trowell-Harris, Director, Center for Women Veterans.

Patricia C. Adams, Deputy Assistant Secretary of the Navy, Civilian Human Resources.

Veterans Benefits Administration PRB

Michael Walcoff, Deputy Under Secretary for Benefits.

Geraldine V. Breakfield, Associate Deputy Under Secretary for Management.

Jason McClellan, Director Central Area Office.

Diana M. Rubens, Associate Deputy Under Secretary for Field Operations.

Willie Clark, Director Western Area Office.

Michael A. Dusenbery, Director, Southern Area Office.

Kenneth M. Greenberg, Executive Secretary to the Department.

A. Jacy Thurmond, Jr., Senior Advisor to the Deputy Commissioner of the Social Security Administration, U.S. Social Security Administration.

Veterans Health Administration PRB

Robert Petzel, M.D., Acting Principal Deputy Under Secretary for Health, Co-Chair.

William C. Schoenhard, Deputy Under Secretary for Health for Operations and Management, Co-Chair.

Joseph Williams, Assistant Deputy Under Secretary for Health for Operations and Management.

Madhulika Agarwal, M.D., Chief Patient Care Services Officer.

Michael E. Moreland, Network Director, VISN 4.

Sanford Garfunkel, Network Director, VISN 5.

Susan Bowers, Network Director, VISN 18.

Nevin M. Weaver, Network Director, VISN 8.

Michael S. Finegan, Network Director, VISN 11.

Glen W. Grippen, Network Director, VISN 19.

Joleen M. Clark, Chief, Workforce Management and Consulting Officer.

Joseph Francis, M.D., Acting Chief, Quality and Performance Officer.

W. Paul Kearns III, Chief Financial Officer.

James Floyd, Network Director, VISN 15.

Caitlin O'Brien, Chief Compliance and Business Integrity Officer.

Patricia Vandenberg, Assistant Deputy Under Secretary for Health for Policy and Planning.

Ann Patterson, Acting VHA Chief of Staff.

Mary Affeldt, Associate Director for Management, National Institute on Drug Abuse.

Ken Greenberg, Executive Secretary to the Department.

Michael Cardarelli, Deputy Chief of Staff.

Dated: October 9, 2009.
W. Scott Gould,
Deputy Secretary of Veterans Affairs.

[FR Doc. E9-24956 Filed 10-15-09; 8:45 am]

BILLING CODE 8320-01-P